DEPARTMENT OF JUSTICE

Notice of Lodging of Consent Decree Under the Clean Water Act

Under 28 CFR 50.7, notice is hereby given that on March 31, 2004, a proposed Consent Decree in United States v. Conoco Pipe Line Company, Civil Action No. CV 04-37-BLG-RFC, was lodged with the United States District Court for the District of Montana.

The Consent Decree resolves the United States' claims under section 311(b) of the Clean Water Act arising from the release of oil from two pipelines operated by the Defendant. These claims pertain specifically to two spills of gasoline from Defendant's Seminoe Pipeline near Lodge Grass, Montana on June 20, 1997, and near Banner, Wyoming on June 27, 1997, and to a spill of crude oil from Defendant's Glacier Pipeline near Conrad, Montana on May 7, 2001. Under the Consent Decree, the Defendant has agreed to pay a civil penalty of $465,000 to resolve the United States' claims regarding these spills.

The Department of Justice will receive for a period of thirty (30) days from the date of this publication comments relating to the Consent Decree. Comments should be addressed to the Assistant Attorney General, Environment and Natural Resources Division, P.O. Box 7611, U.S. Department of Justice, Washington, DC 20044-7611, and should refer to United States v. Conoco Pipe Line Company, D.J. Ref. 90-5-1-1-06939.

The Consent Decree may be examined at the Office of the United States Attorney, 2929 3rd Avenue North, Suite 400, Billing, Montana, and at U.S. EPA Region 8, 999 Eighteenth Street, Suite 300, Denver, Colorado, 80202-2466. During the public comment period, the Consent Decree may also be examined on the following Department of Justice Web site, http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $3.50 (25 cents per page reproduction cost) payable to the U.S. Treasury.

Robert Brook,
Assistant Chief, Environmental Enforcement Section, Environment and Natural Resources Division

[FR Doc. 04-8471 Filed 4-13-04; 8:45 am]

BILLING CODE 4410-15-M